DEPARTMENT OF HOMELAND SECURITY

Coast Guard

[USCG-2005-20457]

Collection of Information Under Review by Office of Management and Budget (OMB): OMB Control Numbers: 1625-0013, 1625-0032, 1625-0037, 1625-0041, and 1625-0042

AGENCY: Coast Guard, DHS.

ACTION: Request for comments.

SUMMARY: In compliance with the Paperwork Reduction Act of 1995, the Coast Guard intends to seek the approval of OMB for the renewal of five Information Collection Requests (ICRs). The ICRs comprise (1) 1625-0013, Plan Approval and Records for Load Lines, (2) 1625-0032, Vessel Inspection Related Forms and Reporting Requirements Under Title 46 U.S. Code, (3) 1625-0037, Certificates of Compliance, Boiler/Pressure Vessel Repairs, Cargo Gear Records, and Shipping Papers, (4) 1625-0041, Various International Agreement Pollution Prevention Certificates and Documents, and Equivalency Certificates, and (5) 1625-0042, Requirements for Lightering of Oil and Hazardous Material Cargoes. Before submitting the ICRs to OMB, the Coast Guard is inviting comments on them as described below.

DATES: Comments must reach the Coast Guard on or before May 6, 2005.

ADDRESSES: To make sure that your comments and related material do not enter the docket [USCG-2005-20457] more than once, please submit them by only one of the following means:

(1) By mail to the Docket Management Facility, U.S. Department of Transportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Ms. Barbara Davis), 2100 Second Street SW., Washington, DC 20593-0001. The telephone number is 202-267-2326.

FOR FURTHER INFORMATION CONTACT: Ms. Barbara Davis, Office of Information Management, telephone 202-267-2326, or fax 202-267-4814 for questions on these documents; or telephone Ms. Andrea M. Jenkins, Program Manager, Docket Operations, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act Policy” below.

Submitting comments: If you submit a comment, please include your name and address, identify the docket number for this request for comment [USCG-2005-20457], indicate the specific section of this document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Requests

1. Title: Plan Approval and Records for Load Lines.

OMB Control Number: 1625-0013.

Summary: This information collection is required to ensure that certain vessels are not loaded deeper than appropriate for safety. Vessels over 150 gross tons or 79 feet in length engaged in commerce on international or coastwise voyages by sea are required to obtain a Load Line Certificate. This collection also incorporates the Great Lakes load lines rule.

Need: Title 46 U.S.C. 5501 to 5516 provides the Coast Guard with the authority to enforce provisions of the International Load Line Convention, 1966. Title 46 CFR Part E—Load Lines contains the relevant regulations.

Respondents: Owners and operators of vessels.

Frequency: On occasion.

Burden Estimate: The estimated burden has decreased from 1,979 hours to 1,681 hours a year.

2. Title: Vessel Inspection Related Forms and Reporting Requirements Under Title 46 U.S. Code.

OMB Control Number: 1625-0032.

Summary: This collection of information requires owners, operators, agents or masters of certain inspected vessels to obtain and/or post various forms as part of the Coast Guard's Commercial Vessel Safety Program.

Need: The Coast Guard's Commercial Vessel Safety Program regulations are found in 46 CFR, as authorized in Title 46 U.S. Code. A number of reporting and recordkeeping requirements are contained therein.

Respondents: Owners, operators, agents and masters of vessels.

Frequency: On occasion.

Burden Estimate: The estimated burden has decreased from 1,578 hours to 1,471 hours a year.

3. Title: Certificates of Compliance, Boiler/Pressure Vessel Repairs, Cargo Gear Records, and Shipping Papers.

OMB Control Number: 1625-0037.

Summary: This information is needed to enable the Coast Guard to fulfill its responsibilities for maritime safety under Title 46, U.S. Code. It is solely for this purpose. The affected public includes some owners or operators of large merchant vessels and all foreign-flag tankers calling at U.S. ports.

Need: Title 46 U.S.C. 3301, 3305, 3306, 3702, 3703, 3711, and 3714 authorizes the Coast Guard to establish marine safety regulations to protect life, property, and the environment. These regulations are prescribed in Title 46 Code of Federal Regulations. The requirements for reporting Boiler/Pressure Valve Repairs, maintaining Cargo Gear Records, maintaining Shipping Papers, and issuance of Certificates of Compliance (CG-3585) provide the marine inspector with available information as to the condition of a vessel and its equipment. It also contains information on the vessel owner and lists the type and amount of cargo that has been or is being transported. These requirements all relate to the promotion of safety of life at sea and protection of the marine environment.

Respondents: Owners and operators of vessels.

Frequency: On occasion.

Burden Estimate: The estimated burden has decreased from 17,555 hours to 13,577 hours a year.

4. Title: Various International Agreement Pollution Prevention Certificates and Documents, and Equivalency Certificates.

OMB Control Number: 1625-0041.

Summary: Required by the adoption of the International Convention for the Prevention of Pollution from Ships (MARPOL 73/78), these certificates and documents are evidence of compliance with this convention for U.S. vessels on international voyages. Without the proper certificates or documents, a U.S. vessel could be detained in a foreign port.

Need: Compliance with MARPOL 73/78 aids in the prevention of pollution from ships.

Respondents: Owners and operators of vessels.

Frequency: On occasion.

Burden Estimate: The estimated burden has been increased from 6,780 hours to 6,874 hours a year.

5. Title: Requirements for Lightering of Oil and Hazardous Material Cargoes.

OMB Control Number: 1625-0042.

Summary: The information for this report allows the U.S. Coast Guard to provide timely response to an emergency and minimize the environmental damage from an oil or hazardous material spill. The information also allows the Coast Guard to control the location and procedures for lightering activities.

Need: Title 46 U.S.C. 3715 authorizes the Coast Guard to establish lightering regulations. Title 33 CFR 156.200 to 156.330 prescribes the Coast Guard regulations for lightering, including pre-arrival notice, reporting of incidents and operating conditions.

Respondents: Owners and operators of vessels.

Frequency: On occasion.

Burden Estimate: The estimated burden has been increased from 228 hours to 324 hours a year.

Dated: February 28, 2005.
Nathaniel S. Heiner,
Acting, Assistant Commandant for Command, Control, Communications, Computers and Information Technology.

[FR Doc. 05-4295 Filed 3-4-05; 8:45 am]

BILLING CODE 4915-15-P